DEPARTMENT OF VETERANS AFFAIRS

Joint Biomedical Laboratory Research and Development and Clinical Science Research and Development Services Scientific Merit Review Board; Notice of Meeting

The Department of Veterans Affairs gives notice under the Public Law 92-463 (Federal Advisory Committee Act) that the Joint Biomedical Laboratory Research and Development and Clinical Science Research and Development Services Scientific Merit Review Board will conduct a telephone conference call meeting from 12 p.m. to 4 p.m. on December 4, 2006, at VA Central Office, 1722 I Street, NW., Room 915, Washington, DC.

The purpose of the Board is to provide advice on the scientific quality, budget, safety and mission relevance of investigator-initiated research proposals submitted for VA merit review consideration.

This meeting will focus on the clinical research program and will be open to the public for approximately one hour at the start of the meeting to discuss the general status of the program. The remaining portion of the meeting will be closed to the public for the review, discussion, and evaluation of initial and renewal projects.

The closed portion of the meeting involves discussion, examination, reference to staff and consultant critiques of research protocols. During this portion of the meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing a portion of this meeting is in accordance with 5 U.S.C., 552b(c)(6) and (9)(B). Those who plan to attend or would like to obtain a copy of the minutes of this meeting and roster of the members should contact LeRoy G. Frey, Ph.D., Chief, Program Review (121F), Department of Veterans Affairs, 810 Vermont Avenue, NW., Washington, DC, 20420 at (202) 254-0288.

Dated: November 13, 2006.
By Director of the Secretary.
E. Philip Riggin,
Committee Management Officer.

[FR Doc. 06-9280 Filed 11-12-06; 8:45 am]

BILLING CODE 8320-01-M